DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. 92-463, 86 Stat. 770) requires that public notice of these meeting be announced in the Federal Register.

DATES: Wednesday, September 17, 2003; 8 a.m.-5 p.m.

Opportunities for public participation will be held from 11:45-12 noon and 3:30 to 3:45 p.m. Additional time may be made available for public comment during the presentations.

ADDRESSES: Willard Arts Center, 498 A Street, Idaho Falls, ID 83402.

FOR FURTHER INFORMATION CONTACT: Ms. Wendy Green Lowe, Idaho National Engineering and Environmental Laboratory (INEEL) Citizens' Advisory Board (CAB) Facilitator, Jason Associates Corporation, 545 Shoup Avenue, Suite 335B, Idaho Falls, ID 83402, Phone (208) 522-1662, X3012 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda

The tentative objectives for the meeting include:

• To receive a status report addressing the Environmental Management Program, implementation of the Performance Management Plan for Accelerating Cleanup at the INEEL, and compliance with the Idaho Settlement Agreement

• To discuss and finalize a recommendation addressing reactions to/concerns about the INEEL End State Plan to be submitted to DOE-HQ

• To discuss and finalize a recommendation addressing reactions to/concerns about the Final Sagebrush Steppe Reserve Environmental Assessment

• To discuss participation in the upcoming Site Specific Advisory Board Chairs Meeting

• Discuss changes to Annual Work Plan to reflect current funding situation

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585, between 9 a.m. and 4 p.m., Monday through Friday except Federal holidays. Minutes will also be available by writing to Ms. Penny Pink, INEEL CAB Administrator, North Wind Environmental, Inc., P.O. Box 51174, Idaho Falls, ID 83405 or by calling (208) 528-8718.

Issued at Washington, DC, on August 15, 2003.
Rachel Samuel,
Deputy Advisory Committee Management Officer.

[FR Doc. 03-21301 Filed 8-19-03; 8:45 am]

BILLING CODE 6450-01-P